COMMISSION ON CIVIL RIGHTS

Sunshine Act Notice

Agency: U.S. Commission on Civil Rights.

Dates and Times: Monday, May 17, 2004, 9:30 a.m.

Place: U.S. Commission on Civil Rights, 624 9th Street, NW., Room 540, Washington, DC 20425.

Status:

Agenda

I. Approval of Agenda

II. Approval of Minutes of April 9, 2004 Meeting

III. Announcements

IV. Staff Director's Report

V. Closed Meeting To Discuss Personnel Matters

VI. Future Agenda Items

Contact Person for Further Information: Les Jin, Press and Communications, (202) 376-7700.

Debra A. Carr,
Deputy General Counsel.

[FR Doc. 04-10653 Filed 5-6-04; 12:34 pm]

BILLING CODE 6335-01-M